Title 3—

The President

Proclamation 8276 of July 24, 2008

Anniversary of the Americans with Disabilities Act, 2008

By the President of the United States of America

A Proclamation

The Americans with Disabilities Act (ADA) has helped tear down barriers for millions of people living with disabilities. On the anniversary of this important legislation, our Nation underscores our commitment to ensuring that all individuals have an equal opportunity to realize their full potential.

On July 26, 1990, President George H. W. Bush signed this groundbreaking Act into law, better enabling citizens with disabilities to participate fully in all aspects of life. Over the course of nearly two decades, this Act has made our schools and workplaces more welcoming, helped change attitudes that once seemed unchangeable, and expanded opportunity for many exceptional Americans. The ADA is one of the most successful civil rights laws in our history and has been an essential part of countless American lives.

My Administration is committed to working to empower those with disabilities so that all our people can achieve the American dream. Building on the success of the ADA, the New Freedom Initiative of 2001 has had a positive impact for many of our citizens. Technological advances have helped individuals gain greater access to everyday life. Students with disabilities are given the tools they need to succeed, and in the workplace, innovative hiring and employment practices are helping to integrate Americans with disabilities into the workforce. The Ticket to Work and AbilityOne programs have helped them become more self-sufficient by expanding access to employment. Our Nation has benefited from the progress we have made since the enactment of the ADA, and it is our responsibility to continue working toward a country where all people are treated with the respect and dignity they deserve.

On this anniversary, we highlight our commitment to the ADA and celebrate the progress that has been made toward full participation of people with disabilities in our society.

NOW, THEREFORE, I, GEORGE W. BUSH, President of the United States of America, by virtue of the authority vested in me by the Constitution and laws of the United States, do hereby proclaim July 26, 2008, as a day in celebration of the 18th Anniversary of the Americans with Disabilities Act. I call on all Americans to celebrate the vital contributions of individuals with disabilities as we work towards fulfilling the promise of the ADA to give all our citizens the opportunity to live with dignity, work productively, and achieve their dreams.

IN WITNESS WHEREOF, I have hereunto set my hand this twenty-fourth day of July, in the year of our Lord two thousand eight, and of the Independence of the United States of America the two hundred and thirty-third.

[FR Doc. 08-1478

Filed 7-28-08; 8:45 am]

Billing code 3195-W8-P